DEPARTMENT OF COMMERCE

International Trade Administration

Secretarial Business Development Mission; Transportation Infrastructure/Multimodal Products and Services to Qatar and United Arab Emirates

AGENCY: International Trade Administration, Department of Commerce.

ACTION: Notice.

Mission Description

U.S. Secretary of Commerce Gary Locke will lead a business development mission for multi-modal transportation and infrastructure development products and services to Doha, Qatar and Abu Dhabi and Dubai, United Arab Emirates (UAE) June 4-9, 2011. The mission is designed to contribute to President Obama's National Export Initiative to achieve the goal of doubling exports over the next five years to support millions of American jobs. This mission will support job creation by increasing exports of products and services that contribute to development projects in these locations.

The industry sectors for this mission will include, but are not limited to: Multimodal freight transportation systems, products and technologies, including port development, airport development, freight rail systems and technologies, supply chain systems and strategies; mass transportation systems; advanced vehicle technologies and intelligent transportation systems and related services and software; and other relevant products and services.

The mission will help U.S. companies already doing business in Qatar or the U.A.E. to increase their current level of exports, business interests and exposure, and will help experienced U.S. exporters, which have not yet done business in Qatar or the U.A.E. to enter these markets in support of job creation in the United States. Participating firms will gain market information, connect with key business and government decision makers, solidify business strategies, and/or advance specific projects. In each of these important sectors, participating U.S. companies will meet with prescreened potential partners, agents, distributors, representatives, and licensees. The agenda will also include meetings with high-level national and local government officials, networking opportunities, country briefings, and seminars.

The delegation will be composed of 15-20 U.S. firms representing the industry sectors noted above. Representatives of the U.S. Department of Transportation and the Export-Import Bank of the United States (Ex-Im) will be invited to participate (as appropriate) to provide information and counseling on their programs as they relate to the markets in Qatar and the U.A.E.

Commercial Setting

Qatar

The United States continues to be the largest import partner to Qatar, accounting for 14% of the total import market. U.S. exports to Qatar surged by 495 percent, from $454 million in 2003 to $2.7 billion in 2009. Qatar is the fifth largest U.S. export destination in the Middle East, making it an important market for U.S. small and medium-sized businesses.

Qatar is one of the richest countries per capita in the world, posting one of the highest GDP per capita values with $90,000 and a GDP of $128 billion forecasted in 2010. The International Monetary Fund predicts that Qatar's GDP will grow by almost 20% in 2011. The World Bank announced that Qatar is the most economically competitive country in the Middle East. Taken together, this has led foreign firms to increase their investment in Qatar's infrastructure, making it one of the most prosperous markets in the Middle East.

Qatar's hosting of the 2022 World Cup Nation Host opens up a constellation of opportunities for U.S. business. The country plans to spend up to $100 billion on infrastructure projects between now and the 2022 World Cup, including roads, bridges, highways, railways, ports, and related consultancy services. Qatar's transportation infrastructure is the main sector benefiting from the current domestic growth environment. Its road transportation structure has been operating at capacity with a strong need to expand the system. Currently, road infrastructure is the only mode of transportation, which is one of the major causes for heavy congestion throughout the country. There are excellent opportunities for U.S. engineers, program management firms, and manufacturers to contribute to the creation of new transport infrastructure projects (i.e., railways, roads, ports, bridges, and highways), along with improved traffic safety systems.

The Prime Minister, Sheikh Hamad bin Jassim, has stated that a significant share of Qatar's budget for 2010-2011 will be for infrastructure development, and it will be completely self-financed. The country continues to maintain high levels of capital spending on major projects, which will reach $12 billion in 2010-2011 compared with $10.4 billion in 2009-2010, representing a 15% year-on-year increase. A significant share of Qatar's budget for 2010-2011 will be for infrastructure development, with 30% reportedly earmarked for infrastructure upgrades, such as the New Doha International Airport, New Doha Seaport, the Doha Expressway Project, roads, and related program management services.

U.A.E.

The U.A.E. is the largest U.S. export market in the Middle East/North Africa region, the second largest economy in the region, and presents qualified American companies with opportunities to expand sales of their products and services to a fast growing market. The U.A.E. is the logistics and business services hub for the wider region. The 2009 GDP for the U.A.E. was $231.3 billion and the 2009 per capita income was $42,000. Despite the recent global financial crisis, the United States and the U.A.E. have continued their long-term trade and investment relationship. Exports between both countries have increased almost every year since 1971, when the U.A.E. was established.

The United States exported over $12 billion worth of products to the U.A.E. in 2009, representing a 237 percent increase since 2002. The United States is the third largest exporter to the U.A.E. and enjoys a very large trade surplus and a strong trading and investment relationship. The U.A.E. is among the Middle East region's leaders in terms of openness to international trade and investment and political stability. It has successfully developed itself into the largest logistics hub in the wider region, with the second-largest man-made port in the world at Jebel Ali, and the fourth busiest airport in the world. It is making major investments in infrastructure and economic diversification, resulting in significant export opportunities for U.S. firms. The U.A.E. is developing key transportation infrastructure projects including: Port Khalifa and industrial zone at Taweelah; the new $8 billion Union Railway project; the $6.7 billion expansion of Abu Dhabi International Airport; the construction of the new Maktoum Airport, which will eventually have five runways; and public transportation systems, such as the expansion of the Dubai metro and the construction of the Abu Dhabi metro and light rail. The goods, services and know-how necessary for the construction and profitable operation of these new systems, particularly those related to multi-modal freight and intelligent supply chain management, provides significant business opportunities in areas where U.S. companies excel. U.S. products enjoy favorable tariffs that generally do not exceed five percent.¹

¹ World Trade Organization: Latest Available MFN Applied Tariffs At HS 6 (2007).

Other Products and Services

The foregoing analysis of export opportunities in Qatar and the U.A.E. is not intended to be exhaustive, but illustrative of the many opportunities in these markets available to U.S. businesses. Applications from companies selling products or services within the scope of this mission, but not specifically identified, will be considered and evaluated by the U.S. Department of Commerce Companies whose products or services do not fit the scope of the mission may contact their local U.S. Export Assistance Center (USEAC) to learn about other trade missions and services that may provide more targeted export opportunities. Companies may call 1-800-872-8723, or e-mail: tic@trade.gov to obtain such information. This information also may be found on the Web site: http://www.export.gov.

Mission Goals

This Business Development Mission will demonstrate the United States' commitment to a sustained economic engagement with Qatar and the U.A.E. The mission will combine Secretarial level policy dialogue and business development for U.S. firms. Additionally, the mission will advance the Administration's goal to broaden and deepen the U.S. exporter base and support the President's National Export Initiative by providing individual participants with business opportunities to achieve export success in these markets.

In support of these goals, the mission's purpose is to support participants as they construct a firm foundation for future business in Qatar and the U.A.E., and specifically aims to:

Provide participants with market information about the local infrastructure opportunities that will contribute to increasing U.S. exports to the Qatari and U.A.E. markets.

Assist in identifying potential end-users and partners (including potential agents, distributors, and licensee partners) and business strategies for U.S. companies to gain access to the Qatari and U.A.E. markets.

Provide an opportunity for participants to be present for discussions with Qatari and U.A.E. government officials and private sector representatives to advance U.S. market access interests in these markets.

Confirm U.S. government support for U.S. business activities in Qatar and the U.A.E. and to provide access to senior foreign government decision makers.

Mission Scenario

During the mission to Qatar and the U.A.E., the participants will:

Meet with high-level Qatari and Emirati government officials

Meet with prescreened potential partners, agents, distributors, representatives and licensees

Meet with representatives of the Chambers of Commerce, industry and trade associations

Attend briefings conducted by Embassy officials on the economic and commercial climate

Receptions and other business events will be organized to provide mission participants with additional opportunities to speak with local business and government representatives, as well as U.S. business executives living and working in the region.

Timetable

The mission program will begin at 5:00 p.m., Saturday, June 4, 2011 and run through the evening of Thursday, June 9, 2011. Participants are encouraged to arrive on or before June 4, 2011.

June 4 | Doha, Qatar. Orientation. Market Briefing by U.S. Embassy Officials. Welcome Dinner.
June 5 | Doha, Qatar. Meetings with Senior Qatari Government Officials. Business Event/Briefing with Local Industry Representatives. One-on-One Business Meetings for the Delegation. Networking Reception.
June 6 | Doha, Qatar. One-on-One Business Meetings for the Delegation. Travel to Abu Dhabi, UAE. Abu Dhabi, UAE. Market Briefing by U.S. Embassy Officials. One-on-One Business Meetings for the Delegation. Networking reception.
June 7 | Abu Dhabi, UAE. Meetings with Senior UAE and Abu Dhabi Government Officials. Business Event/Briefing with Local Industry Representatives. One-on-One Business Meetings for the Delegation.
June 8 | Abu Dhabi, UAE. One-on-One Business Meetings for the Delegation. Travel to Dubai. Dubai, UAE. One-on-One Business Meetings for the Delegation. Networking reception.
June 9 | Dubai, UAE. Meetings with Senior Dubai Government Officials. Business Event/Briefing with Local Industry Representatives. One-on-One Business Meetings for the Delegation. Closing Dinner. Mission Ends/Departure.

Participation Requirements

All parties interested in participating in the Secretarial Business Development Mission to Qatar and the U.A.E. must submit an application package for consideration by the U.S. Department of Commerce. All applicants will be evaluated on their ability to meet certain conditions and best satisfy the selection criteria as outlined below. The mission is designed to select a minimum of 15 and a maximum of 20 companies to participate in the mission from the applicant pool. U.S. companies already doing business in the target markets, as well as U.S. companies seeking to enter these markets for the first time, are encouraged to apply.

Fees and Expenses

After a company has been selected to participate on the mission, a payment to the Department of Commerce in the form of a participation fee is required. The participation fee will be $10,200 for large firms and $8,800 for a small or medium-sized enterprise (SME),² which will cover the principal (one) representative. The fee for each additional firm representative (large firm or SME) is $2,000. Local transportation, including transport between mission cities, is included in the participation fee.

² An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (see http://www.export.gov/newsletter/march2008/initiatives.html for additional information).

Expenses for lodging, some meals, and incidentals will be the responsibility of each mission participant. Air transportation from the United States (or point of origin) to Qatar and return to the United States is the responsibility of the participant. Business visas may be required. Government fees and processing expenses to obtain such visas are not included in the participation fee. However, the U.S. Department of Commerce will provide instructions to each participant on the procedures required to obtain necessary business visas.

Conditions for Participation

An applicant must submit a completed and signed mission application and supplemental application materials, including adequate information on the company's products and/or services, primary market objectives, and goals for participation. If the U.S. Department of Commerce receives an incomplete application, the Department may reject the application, request additional information, or take the lack of information into account when evaluating the applications.

Each applicant must also:

Certify that the products and services it seeks to export through the mission are either produced in the United States or, if not, marketed under the name of a U.S. firm and have at least fifty-one percent U.S. content. In cases where the U.S. content does not exceed fifty percent, especially where the applicant intends to pursue investment and major project opportunities, the following factors, often associated with U.S. ownership, may be considered in determining whether the applicant's participation in the business development mission is in the U.S. national interest:

U.S. materials and equipment content; U.S. labor content; Repatriation of profits to the U.S. economy; and/or Potential for follow-on business that would benefit the U.S. economy;

Certify that the products and services that it wishes to export through the mission would be in compliance with U.S. export controls and regulations;

Certify that it has identified to the Department of Commerce for its evaluation any business pending before the Department of Commerce that may present the appearance of a conflict of interest;

Certify that it has identified any pending litigation (including any administrative proceedings) to which it is a party that involves the Department of Commerce; and

Sign and submit an agreement that it and its affiliates (1) have not and will not engage in the bribery of foreign officials in connection with a company's/participant's involvement in this mission, and (2) maintain and enforce a policy that prohibits the bribery of foreign officials.

Selection Criteria for Participation

Selection will be based on the following criteria in decreasing order of importance:

Consistency of a company's products or services with the scope and desired outcome of the mission's goals; Suitability of a company's products or services to the Qatari and U.A.E. markets and the likelihood of a participating company's increased exports to or business interests in these markets as a result of this mission; Demonstrated export experience in Qatar, the U.A.E., or other foreign markets; Current or pending major project participation; and Rank/seniority of the designated company representative.

Additional factors, such as diversity of company size, type, location, and demographics, may also be considered during the review process.

Referrals from political organizations and any documents, including the application, containing references to partisan political activities (including political contributions) will be removed from an applicant's submission and not considered during the selection process.

Timeframe for Recruitment and Applications

Mission recruitment will be conducted in an open and public manner, including publication in the Federal Register, posting on the Commerce Department trade mission calendar— http://www.trade.gov/trade-missions/—and other Internet Web sites, press releases to general and trade media, direct mail, broadcast fax, notices by industry trade associations and other multiplier groups, and publicity at industry meetings, symposia, conferences, and trade shows.

The Commerce Department's Office of Business Liaison and the International Trade Administration will explore and welcome outreach assistance from other interested organizations, including other U.S. government agencies.

Recruitment for the mission will begin on/or about January 24, 2011. Applications can be completed on-line at the Qatar and U.A.E. Business Development Mission Web site at http://www.trade.gov/QatarUAEMission2011 or can be obtained by contacting the U.S. Department of Commerce from Larry Brill, U.S. Commercial Service (202-482-1856/Lawrence.Brill@trade.gov). The application deadline is Friday, March 18, 2011, unless extended by the Department of Commerce. Completed applications should be submitted to the Office of Business Liaison. Applications received after Friday, March 18, 2011, will be considered only if space and scheduling constraints permit.

Information can also be obtained by contacting the mission contacts listed below.

Contacts

The Office of Business Liaison, Office of the Secretary, Phone: (202) 482-1360/Fax: (202) 482-4054, E-mail: BusinessLiaison@doc.gov.

U.S. Commercial Service Domestic Contact

Mr. Larry Brill, Phone: (202) 482-1856/Fax: (202) 482-2331, E-mail: Lawrence.Brill@trade.gov.

U.S. Commercial Service Qatar Contact

Mr. Dao Le, U.S. Commercial Service, Doha, Qatar, Tel: 011-974-488-4101/Fax: 011-974-488-4163, E-mail: Dao.Le@trade.gov.

U.S. Commercial Service U.A.E. Contact

Ms. Laurie Farris, U.S. Commercial Service, Abu Dhabi, UAE, Phone: 011-971-2-414-2665/Fax: 011-971-2-414-2228, E-mail: Laurie.Farris@trade.gov.

Larry Brill,
Global Trade Programs, U.S. & Foreign Commercial Service.

[FR Doc. 2011-2802 Filed 2-8-11; 8:45 am]

BILLING CODE 3510-FP-P